DEPARTMENT OF EDUCATION

National Assessment Governing Board

AGENCY: National Assessment Governing Board, U.S. Department of Education.

ACTION: Announcement of closed teleconference meeting.

SUMMARY: This notice sets forth the agenda for the January 11, 2018 closed teleconference meeting of the National Assessment Governing Board's (Governing Board) Nominations Committee, which has been delegated by the Governing Board to take action on behalf of the Board. This notice provides information to members of the public who may be interested in providing written comments related to the work of the Governing Board. Notice of this meeting is required under the Federal Advisory Committee Act (FACA).

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Written comments may be submitted electronically or in hard copy to the attention of the Executive Officer/Designated Federal Official (see contact information noted above). Information on the Governing Board, its membership and work can be found at www.nagb.gov.

The Governing Board is established to formulate policy for the National Assessment of Educational Progress (NAEP). The Governing Board's responsibilities include selecting subject areas to be assessed, developing assessment frameworks and specifications, developing appropriate student achievement levels for each grade and subject tested, improving the form and use of NAEP, developing guidelines for reporting and disseminating results, and releasing initial NAEP results to the public.

The Governing Board's Nominations Committee fulfills the responsibility of making recommendations for potential candidates to fill Governing Board vacancies for terms of service established by law in various Governing Board categories. Following Nominations Committee action on the recommendations (per delegation of authority from the Governing Board on nominees from the October 2016 call for nominees), the final slate of candidates is submitted to the Secretary of Education for consideration and appointment to serve on the Governing Board, as defined in Section 302, Public Law 107-279; see https://nagb.gov/about-naep/the-naep-law.html.

On January 11, 2018, the Nominations Committee will meet in closed session from 6:30 p.m. to 8:30 p.m. The Committee will discuss nominees for the position of Chief State School Officer to complete the term of service (term expires on September 30, 2018) of the former incumbent, Massachusetts Commissioner of Education, Mitchell Chester. The Nominations Committee's discussions pertain solely to internal personnel rules and practices of an agency and information of a personal nature where disclosure would constitute a clearly unwarranted invasion of personal privacy. As such, the discussions are protected by exemptions 2 and 6 of § 552b(c) of Title 5 of the United States Code.

During the November 17, 2017 Governing Board meeting, the Governing Board delegated authority to the Nominations Committee to receive, review, and take action on the final slate of recommended candidates for the position of Chief State School Officer. This delegation of authority allows the timely submission of candidates to the Secretary of Education for consideration and action prior to the March 2018 Governing Board meeting.

Access to Records of the Meeting: Pursuant to FACA requirements, the public may also inspect the meeting deliberations for the November 2017 Board meeting via meeting minutes wherein the delegation of authority to take action on behalf of the Board was issued to the Nominations Committee by the Governing Board at www.nagb.gov beginning on February 12, 2018 by 10:00 a.m. ET. The report of the January 11 closed meeting will be available also on February 12, 2018.

Electronic Access to this Document: The official version of this document is published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

William J. Bushaw,
Executive Director, National Assessment Governing Board (NAGB), U.S. Department of Education.

[FR Doc. 2017-27127 Filed 12-18-17; 8:45 am]

BILLING CODE 4000-01-P